DEPARTMENT OF TRANSPORTATION

Federal Aviation Administration

14 CFR Part 39

[Docket No. FAA-2005-20026; Directorate Identifier 2004-NM-150-AD]

RIN 2120-AA64

Airworthiness Directives; Boeing Model 767-400ER, 777-200, and 777-300 Series Airplanes

AGENCY: Federal Aviation Administration (FAA), DOT.

ACTION: Notice of proposed rulemaking (NPRM).

SUMMARY: The FAA proposes to adopt a new airworthiness directive (AD) for certain Boeing Model 767-400ER, 777-200, and 777-300 series airplanes. This proposed AD would require replacing, with new parts, the existing tie-down fitting studs that secure galleys, purser work stations, and closets to the seat tracks. This proposed AD is prompted by a report that tie-down fitting studs were found damaged. We are proposing this AD to prevent a galley, purser work station, or closet from detaching from the tie-down fitting studs during an emergency landing, which could injure passengers or crewmembers, or obstruct escape routes and impede emergency evacuation.

DATES: We must receive comments on this proposed AD by February 28, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW, Nassif Building, room PL-401, Washington, DC 20590.

• By fax: (202) 493-2251.

• Hand Delivery: Room PL-401 on the plaza level of the Nassif Building, 400 Seventh Street SW, Washington, DC, between 9 a.m. and 5 p.m., Monday through Friday, except Federal holidays.

For service information identified in this proposed AD, contact Boeing Commercial Airplanes, P.O. Box 3707, Seattle, Washington 98124-2207.

You can examine the contents of this AD docket on the Internet at http://dms.dot.gov, or in person at the Docket Management Facility, U.S. Department of Transportation, 400 Seventh Street SW, room PL-401, on the plaza level of the Nassif Building, Washington, DC. This docket number is FAA-2005-20026; the directorate identifier for this docket is 2004-NM-150-AD.

FOR FURTHER INFORMATION CONTACT: Robert Kaufman, Aerospace Engineer, Cabin Safety and Environmental Systems Branch, ANM-150S, FAA, Seattle Aircraft Certification Office, 1601 Lind Avenue, SW., Renton, Washington 98055-4056; telephone (425) 917-6433; fax (425) 917-6590.

SUPPLEMENTARY INFORMATION:

Comments Invited

We invite you to submit any relevant written data, views, or arguments regarding this proposed AD. Send your comments to an address listed under ADDRESSES. Include “Docket No. FAA-2005-20026; Directorate Identifier 2004-NM-150-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that website, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

We have received a report indicating that tie-down fitting studs, which secure galleys, purser work stations, and closets to the seat tracks, have been found cracked or deformed on a Boeing 777-200 series airplane during production. Investigation revealed that the original torque values were too high, which damaged the fitting studs during installation. This condition, if not corrected, could result in a galley, purser work station, or closet detaching from the tie-down fitting studs during an emergency landing, which could injure passengers or crewmembers, or obstruct escape routes and impede emergency evacuation.

The subject tie-down fitting studs were also installed on Boeing Model 767-400ER and 777-300 series airplanes using the same original torque values used on Model 777-200 series airplanes. Therefore, all of these models may be subject to the same unsafe condition.

Relevant Service Information

We have reviewed Boeing Service Bulletins 767-25-0338, dated October 9, 2003; and 777-25-0217, dated July 17, 2003. Those service bulletins describe procedures for replacing, with new parts, the existing tie-down fitting studs that secure galleys, purser work stations, and floor-mounted closets to the seat tracks. Accomplishing the actions specified in the service information is intended to adequately address the unsafe condition.

FAA's Determination and Requirements of the Proposed AD

We have evaluated all pertinent information and identified an unsafe condition that is likely to exist or develop on other airplanes of this same type design. Therefore, we are proposing this AD, which would require accomplishing the actions specified in the service information described previously, except as discussed under “Differences Between the Proposed AD and Service Information.”

Differences Between the Proposed AD and Service Information

The compliance time for the actions that would be required by the proposed AD differs from the compliance times recommended in the service information. Boeing Service Bulletin 767-25-0338 recommends doing the actions “at the next maintenance period when manpower and facilities are available.” Boeing Service Bulletin 777-25-0217 recommends doing the actions at the “next convenient maintenance opportunity, not to exceed 7 years from the initial release” of the service bulletin. In developing an appropriate compliance time for this AD, we considered the manufacturer's recommendation, the degree of urgency associated with the subject unsafe condition, and the time necessary to perform the proposed actions. In light of all of these factors, we find that a 60-month compliance time represents an appropriate interval of time for affected airplanes to continue to operate without compromising safety. We have coordinated this difference with Boeing, and they concur with our proposed compliance time.

Costs of Compliance

There are about 349 airplanes of the affected design in the worldwide fleet, including about 118 U.S.-registered airplanes. The following table provides the estimated costs for U.S. operators to comply with this proposed AD, at an average labor rate of $65 per hour.

Estimated Costs
Airplane model | Work hours (for U.S.-registered airplanes) | Parts | Cost per airplane | No. of U.S.-registered airplanes | Fleet cost
767-400ER | 10 | $6,221 | $6,871 | 6 | $41,226
777-200 and -300 | ¹ 6-30 | 1,464-19,761 | 1,854-21,711 | 118 | 218,772-2,561,898
¹ Depending on configuration.

Authority for this Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Boeing: Docket No. FAA-2005-20026; Directorate Identifier 2004-NM-150-AD.

Comments Due Date

(a) The Federal Aviation Administration (FAA) must receive comments on this AD action by February 28, 2005.

Affected ADs

(b) None.

Applicability

(c) This AD applies to Boeing Model 767-400ER series airplanes, certificated in any category, having Variable Numbers VQ071 through VQ076 inclusive; and Model 777-200 and -300 series airplanes, certificated in any category, as listed in Boeing Service Bulletin 777-25-0217, dated July 17, 2003.

Unsafe Condition

(d) This AD was prompted by a report that tie-down fitting studs were found damaged. We are issuing this AD to prevent a galley, purser work station, or closet from detaching from the tie-down fitting studs during an emergency landing, which could injure passengers or crewmembers, or obstruct escape routes and impede emergency evacuation.

Compliance

(e) You are responsible for having the actions required by this AD performed within the compliance times specified, unless the actions have already been done.

Replacement

(f) Within 60 months after the effective date of this AD: Replace, with new parts, the existing tie-down fitting studs that secure galleys, purser work stations, and floor-mounted closets to the seat tracks, by doing all actions in accordance with the Accomplishment Instructions of Boeing Service Bulletin 767-25-0338, dated October 9, 2003 (for Boeing Model 767-400ER series airplanes); or Boeing Service Bulletin 777-25-0217, dated July 17, 2003 (for Boeing Model 777-200 and -300 series airplanes); as applicable.

Replacements Accomplished According to Previous Issue of Service Bulletin

(g) For Boeing Model 777-200 and -300 series airplanes: Replacements accomplished before the effective date of this AD according to Boeing Service Bulletin 777-25-0217, dated July 18, 2002, are considered acceptable for compliance with the corresponding action specified in this AD.

Alternative Methods of Compliance (AMOCs)

(h) The Manager, Seattle Aircraft Certification Office (ACO), FAA, has the authority to approve AMOCs for this AD, if requested in accordance with the procedures found in 14 CFR 39.19.

Issued in Renton, Washington, on December 30, 2004.
Kevin M. Mullin,
Acting Manager, Transport Airplane Directorate, Aircraft Certification Service.

[FR Doc. 05-614 Filed 1-11-05; 8:45 am]

BILLING CODE 4910-13-P